ELECTION ASSISTANCE COMMISSION

Sunshine Act Notice

* * * * *

ACTION: Notice of Public Meeting for the Executive Board of the EAC Standards Board.

Date & Time: Tuesday, August 23, 2005, 6:30 a.m.-8:30 p.m.

Place: Adam's Mark Hotel, 1550 Court Place, Denver, CO 80202.

Topics: The Executive Board of the U.S. Election Assistance Commission (EAC) Standards Board will meet to plan and prepare for the meeting of Standards Board, to plan and prepare a presentation of recommendations to the Standards Board on the Voluntary Voting System Guidelines proposed by EAC, and to handle other administrative matters.

* * * * *

Person to Contact for Information: Bryan Whitener, telephone: (202) 566-3100.

* * * * *

Thomas R. Wilkey,
Executive Director, U.S. Election Assistance Commission.

[FR Doc. 05-15449 Filed 8-1-05; 1:18 pm]

BILLING CODE 6820-YN-M